DEPARTMENT OF DEFENSE

Office of the Secretary

[Transmittal No. 24-0S]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0S.

Dated: November 13, 2025.
Aaron T. Siegel,
Alternate OSD Federal Register Liaison Officer, Department of Defense.

Transmittal No. 24-0S

REPORT OF ENHANCEMENT OR UPGRADE OF SENSITIVITY OF TECHNOLOGY OR CAPABILITY (SEC. 36(B)(5)(C), AECA)

(i) Purchaser: Government of Singapore

(ii) Sec. 36(b)(1), AECA Transmittal No.: 23-03

Date: February 9, 2023

Implementing Agency: Air Force

Funding Source: National Funds

Description: On February 9, 2023, Congress was notified by congressional certification transmittal number 23-03 of the possible sale, under Section 36(b)(1) of the Arms Export Control Act, of one hundred (100) KMU-556 Tail Kits for Joint Direct-Attack Munition (JDAM) GBU-31; nine hundred (900) KMU-572 Tail Kits for JDAM GBU-38 and Laser JDAM GBU-54; two hundred fifty (250) MAU-169 Computer Control Group for 500lb Paveway-II (PWII) GBU-12; and two hundred fifty (250) MXU-650 Air Foil Group for 500lb PWII GBU-12. Also included are DSU-38 laser guidance sets; Common Munitions Built-In-Test/Reprogramming Equipment; spare parts, consumables, accessories, and repair and return support; aircraft and munitions support and support equipment; personnel training and training equipment; unclassified software; unclassified technical books and other publications; U.S. Government and contractor engineering, technical and logistics support services, studies and surveys; and other related elements of logistics and program support. The estimated total cost was $55 million. Major Defense Equipment (MDE) constituted $37 million of this total.

This transmittal notifies the inclusion of the following additional MDE items: two hundred ninety (290) KMU-556 Tail Kits for JDAM GBU-31; and nine hundred sixty-four (964) KMU-572 Tail Kits for JDAM GBU-38 and Laser JDAM GBU-54. The following non-MDE items will also be included: bomb components; aircraft component parts and accessories; and logistics and program support. The estimated total value of the new items is $63 million. The estimated MDE value will increase by $55 million. The estimated non-MDE value will increase by $8 million to a revised $26 million. The estimated total case value will increase by $63 million to a revised $118 million. MDE will constitute $92 million of this total.

(iii) Significance: This notification is being provided as the additional MDE items represents an increase in quantity over what was previously notified.

(iv) Justification: This proposed sale will support the Republic of Singapore Air Force's capability to contribute to coalition operations and meet its national defense requirements.

(v) Sensitivity of Technology: The Sensitivity of Technology statement contained in the original notification applies to items reported here.

The highest level of classification of defense articles, components, and services included in this potential sale is SECRET.

(vi) Date Report Delivered to Congress: September 18, 2024

[FR Doc. 2025-20039 Filed 11-17-25; 8:45 am]

BILLING CODE 6001-FR-P